DEPARTMENT OF HEALTH AND HUMAN SERVICES

National Institutes of Health

Center for Scientific Review; Amended Notice of Meeting

Notice is hereby given of a change in the meeting of the Center for Scientific Review Special Emphasis Panel, June 26, 2006, 8 a.m. to June 27, 2006, 5 p.m., Hyatt Regency Bethesda, One Bethesda Metro Center, 7400 Wisconsin Avenue, Bethesda, MD 20814, which was published in the Federal Register on May 16, 2006, 71 FR 28363-28365.

The meeting will be held one day only on June 26, 2006. The meeting time and location remain the same. The meeting is closed to the public.

Dated: May 25, 2006.
Anna Snouffer,
Acting Director, Office of Federal Advisory Committee Policy.

[FR Doc. 06-5064 Filed 6-1-06; 8:45 am]

BILLING CODE 4140-01-M